DEPARTMENT OF TRANSPORTATION

Surface Transportation Board

[STB Finance Docket No. 34466]

Georgia Midland Railroad, Inc.—Acquisition and Operation Exemption—Ogeechee Railway Company

Georgia Midland Railroad, Inc. (GMR), a noncarrier, has filed an amended notice of exemption to acquire by sublease from Ogeechee Railway Company (ORC) and operate the following lines: (1) The Perry line between (a) milepost 90.44-FV at or near Roberta, GA, and milepost 105.30-FV at or near Fort Valley, GA, a distance of approximately 14.86 miles; and (b) between milepost N219.70 at or near Fort Valley, GA, and milepost 232.60 at or near Perry, GA, a distance of approximately 12.9 miles; (2) the Metter line between milepost W-57.50 at or near Dover, GA, and milepost W-86.70 at or near Metter, GA, a distance of approximately 29.2 miles; and (3) the Sylvania line between milepost SA-36.4 at or near Ardmore, GA, and milepost SA-57.5 at or near Sylvania, GA, a distance of approximately 21.1 miles. ORC leases these lines from the State of Georgia Department of Transportation (GaDOT). ORC and GMR state that they have reached an agreement regarding this transaction and have taken steps to obtain GaDOT's consent to the proposed sublease and operation.

The transaction was scheduled to be consummated on or after February 19, 2004 (7 days after the amended notice was filed).

This transaction is related to two concurrently filed amended verified notices of exemption in: (1) STB Finance Docket No. 34467, Heart of Georgia Railroad, Inc.—Acquisition and Operation Exemption—Rail Line of Ogeechee Railway Company, wherein ORC seeks to sublease to Heart of Georgia Railroad, Inc. (HOG) a 42.4-mile rail line between Midville and Vidalia, GA; and (2) STB Finance Docket No. 34468, Atlantic Western Transportation, Inc.—Continuance in Control Exemption—Georgia Midland Railroad, Inc., wherein Atlantic Western Transportation, Inc. (AWT), a noncarrier, will continue in control of GMR, upon GMR's becoming a rail carrier. AWT also currently controls HOG.

GMR certifies that its projected annual revenues will not exceed those that would qualify it as a Class III carrier.

If the notice contains false or misleading information, the exemption is void ab initio. Petitions to revoke the exemption under 49 U.S.C. 10502(d) may be filed at any time. The filing of a petition to revoke will not automatically stay the transaction.

An original and 10 copies of all pleadings, referring to STB Finance Docket No. 34466, must be filed with the Surface Transportation Board, 1925 K Street, NW., Washington, DC 20423-0001. In addition, one copy of each pleading must be served on Thomas F. McFarland, P.C., 208 South LaSalle Street, Suite 189, Chicago, IL 60604-1112.

Board decisions and notices are available on our Web site at www.stb.dot.gov.

Decided: March 4, 2004.
By the Board, David M. Konschnik, Director, Office of Proceedings.
Vernon A. Williams,
Secretary.

[FR Doc. 04-5364 Filed 3-11-04; 8:45 am]

BILLING CODE 4915-01-P